DEPARTMENT OF ENERGY

Federal Energy Regulatory Commission

[Project No. 13995-000]

Mill Town Power Project; Notice of Preliminary Permit Application Accepted for Filing and Soliciting Comments, Motions To Intervene, and Competing Applications

On January 4, 2011, Mill Town Power Project filed an application for a preliminary permit, pursuant to section 4(f) of the Federal Power Act (FPA), proposing to study the feasibility of the Chagrin Spillway Hydroelectric Project (Chagrin Spillway Project or project) to be located on the Upper Main Branch of the Chagrin River, in the town of Chagrin Falls, in Cuyahoga County, Ohio. The sole purpose of a preliminary permit, if issued, is to grant the permit holder priority to file a license application during the permit term. A preliminary permit does not authorize the permit holder to perform any land-disturbing activities or otherwise enter upon lands or waters owned by others without the owners' express permission.

The proposed project would consist of the following: (1) An impoundment with a surface area of 0.2 acres at a maximum pool elevation of 940 feet mean sea level; (2) a 9.45-foot-high, 162-foot-long earthen stone and reinforced concrete dam including a 91-foot-long spillway; (3) a new 10-foot-wide intake structure constructed directly upstream of the left side of the dam; (4) a new 75-foot-long, 48-inch-diameter steel penstock leading from the intake structure to the turbine assembly; (5) a new 20-foot-long, 20-foot-wide powerhouse located downstream of the dam containing one S-Type tubular Kaplan turbine-generator unit with a capacity of 110 kilowatts; (6) a new 6-foot-wide, 10-foot-long tailrace; (7) a new 480-volt, 800-foot-long transmission line connecting the powerhouse with a net metering station; and (8) appurtenant facilities. The estimated annual generation of the Chagrin Spillway Project would be 700 megawatt-hours at a head range of 14-17 feet.

Applicant Contact: Mr. Anthony J. Marra III, General Manager, 11365 Normandy Lane, Chagrin Falls, Ohio 44023; phone: (440) 804-6627.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13995-000) in the docket number field to access the document. For assistance, contact FERC Online Support.

Dated: February 10, 2011.
Kimberly D. Bose,
Secretary.

[FR Doc. 2011-3624 Filed 2-16-11; 8:45 am]

BILLING CODE 6717-01-P